DEPARTMENT OF THE INTERIOR

Bureau of Indian Affairs

[245A2100DD/AAKC001030/A0A501010.999900]

Indian Gaming; Approval of Tribal-State Class III Gaming Compact Amendment Between Lower Sioux Indian Community and the State of Minnesota

AGENCY: Bureau of Indian Affairs, Interior.

ACTION: Notice.

SUMMARY: This notice publishes the approval of the Amendment to Technical Standards in Tribal-State Compact for Control of Class III Blackjack on the Lower Sioux Community Reservation in Minnesota (Blackjack Amendment) and the and the Amendment to Technical Standards in Tribal-State Compact for Control of Class III Video Games of Chance (Video Game Amendment).

DATES: The Amendment takes effect on October 4, 2023.

FOR FURTHER INFORMATION CONTACT: Ms. Paula L. Hart, Director, Office of Indian Gaming, Office of the Assistant Secretary—Indian Affairs, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Blackjack Amendment incorporates two previous amendments that were made between the State and the Community dated 2002 and December 3, 2020, but were not submitted to the Department as required by 25 CFR 293.4. The Blackjack Amendment defines propositional wagers (side bets), allows the Community to permit side bets and describes how cards will be dealt. The Blackjack Amendment makes technical amendments to update and correct various provisions of the compact. The Video Game Amendment incorporates six previous amendments dated June 1, 1990, 2002, February 25, 2003, November 12, 2003, April 2, 2010, and April 2, 2015. The Video Game Amendment defines minimum payouts, odds, minimum media storage requirements, and provisions for cashless tickets, ticket redemption, ticket printing and printing errors, and ticket validation. The Video Game Amendment also adopts minimum internal control standards and software requirements. The Amendments including the previously unsubmitted Amendments as amended are approved.

Bryan Newland,
Assistant Secretary—Indian Affairs.

[FR Doc. 2023-22029 Filed 10-3-23; 8:45 am]

BILLING CODE 4337-15-P